DEPARTMENT OF COMMERCE

Foreign-Trade Zones Board

[S-139-2017]

Approval of Subzone Status; Gulfstream Aerospace Corporation; Dallas, Texas

On September 12, 2017, the Executive Secretary of the Foreign-Trade Zones (FTZ) Board docketed an application submitted by the Metroplex International Trade Development Corporation, grantee of FTZ 168, requesting subzone status subject to the existing activation limit of FTZ 168, on behalf of Gulfstream Aerospace Corporation, in Dallas, Texas.

The application was processed in accordance with the FTZ Act and Regulations, including notice in the Federal Register inviting public comment (82 FR 43327, September 15, 2017). The FTZ staff examiner reviewed the application and determined that it meets the criteria for approval.

Pursuant to the authority delegated to the FTZ Board's Executive Secretary (15 CFR Sec. 400.36(f)), the application to establish Subzone 168E was approved on November 6, 2017, subject to the FTZ Act and the Board's regulations, including Section 400.13, and further subject to FTZ 168's 1,909-acre activation limit.

Dated: November 8, 2017.
Andrew McGilvray,
Executive Secretary.

[FR Doc. 2017-24645 Filed 11-14-17; 8:45 am]

BILLING CODE 3510-DS-P